DEPARTMENT OF TRANSPORTATION

Federal Aviation Administration

Notice of Passenger Facility Charge (PFC) Approvals and Disapprovals

AGENCY: Federal Aviation Administration (FAA), DOT.

ACTION: Monthly Notice of PFC Approvals and Disapprovals. In June 2006, there were six applications approved. This notice also includes information on two applications, approved in May 2006, inadvertently left off the May 2006 notice. Additionally, five approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: City of Atlanta, Georgia.

Application Number: 06-08-C-00-ATL.

Application Type: Impose and use a PFC.

PFC Level: $4.50.

Total PFC Revenue Approved in this Decision: $165,206,163.

Earliest Charge Effective Date: August 1, 2018.

Estimated Charge Expiration Date: August 1, 2019.

Class of Air Carriers not Required to Collect PFC'S:

Air taxi/commercial operators.

Determination: Approved. Based on information submitted in the public agency's application, the FAA has determined that the proposed class accounts for less than 1 percent of the total annual enplanements at Hartsfield-Jackson Atlanta International Airport.

Brief Description of Projects Approved for Collection and Use at a $4.50 PFC Level:

Site preparation for southside aircraft parking positions and taxiways.

Runway 8R/26L pavement replacement.

Brief Description of Projects Partially Approved for Collection and Use at a $4.50 PFC Level:

New airport safety/command and control center.

Determination: Partially approved. A portion of this project did not meet the requirements of § 158.15. Equipment and facilities used for day-to-day airport operations, such as dormitories and kitchenettes are not eligible in accordance with paragraph 603b(3) of FAA Order 5100.38C, Airport Improvement Program Handbook (June 28, 2005).

Runway safety area improvements.

Determination: Partially approved. PFC funding was limited to that portion of the project not funded by existing or planned Airport Improvement Program grants.

Decision Date: May 31, 2006.

FOR FURTHER INFORMATION CONTACT: Aimee McCormick, Atlanta Airports District Office, (404) 305-7143.

Public Agency: County of Outagamie, Appleton, Wisconsin.

Application Number: 06-06-C-00-ATW.

Application Type: Impose and use a PFC.

PFC Level: $4.50.

Total PFC Revenue Approved in this Decision: $4,717,500.

Earliest Charge Effective Date: September 1, 2008.

Estimated Charge Expiration Date: January 1, 2013.

Class of Air Carriers not Required to Collect PFC'S:

Air taxi/commercial operators.

Determination: Approved. Based on information submitted in the public agency's application, the FAA has determined that the proposed class accounts for less than 1 percent of the total annual enplanements at Outagamie County regional Airport.

Brief Description of Projects Approved for Collection and Use:

Perimeter service road.

Entrance access road.

PFC administration.

Decision Date: May 31, 2006.

For Further Information Contact: Nancy Nistler, Minneapolis Airports district Office, (612) 713-4353.

Public Agency: Tucson Airport Authority, Tucson, Arizona.

Application Number: 06-02-C-00-TUS.

Application Type: Impose and use a PFC.

PFC Level: $4.50.

Total PFC Revenue Approved in this Decision: $44,194,512.

Earliest Charge Effective Date: April 1, 2013.

Estimated Charge Expiration Date: September 1, 2017.

Class of Air Carriers not Required to Collect PFC'S:

Nonscheduled/on-demand air carriers filing FAA Form 1800-31.

Determination: Approved. Based on information submitted in the public agency's application, the FAA has determined that the proposed class accounts for less than 1 percent of the total annual enplanements at Tucson International Airport.

Brief Description of Project Approved for Collection and Use:

Concourse renovation.

Decision Date: June 6, 2006.

For Further Information Contact: Eric Vermeeren, Western Pacific Region Airports Division, (310) 725-3631.

Public Agency: Maryland Aviation Administration, Baltimore, Maryland.

Application Number: 06-05-C-00-BWI.

Application Type: Impose and use a PFC.

PFC Level: $4.50.

Total PFC Revenue Approved in this Decision: $206,833,000.

Earliest Charge Effective Date: June 1, 2011.

Estimated Charge Expiration Date: January 1, 2016.

Class of Air Carriers not Required to Collect PFC'S:

Nonscheduled/on-demand air carriers filing FAA Form 1800-31.

Determination: Approved. Based on information submitted in the public agency's application, the FAA has determined that the proposed class accounts for less than 1 percent of the total annual enplanements at Baltimore-Washington International Thurgood Marshall Airport.

Brief Description of Projects Approved for Collection and Use at a $4.50 PFC level:

Security enhancement program.

Concourses C/D and D/E apron rehabilitation.

Concourse B/C apron rehabilitation.

Airfield lighting and signage.

Perimeter security.

Terminal area D/E baggage handling system upgrades (design).

Taxiway rehabilitation program.

Brief Description of Projects Approved for Collection and use at a $3.00 PFC Level:

Terminal roadway resurfacing.

Equipment and safety training systems.

Communications equipment and infrastructure.

Snow removal equipment.

Glycol recovery vehicles.

Terminal baggage handling system renovations.

Glycol collection tank.

Brief Description of Projects Approved for Collection at a $4.50 PFC Level:

Terminal area D/E baggage handling system upgrades (construction).

Northwest quadrant perimeter service road.

Decision Date: June 9, 2006.

For Further Information Contact: Luis Larte, Washington Airports District Office, (703) 661-1365.

Public Agency: County of Montrose, Montrose, Colorado.

Application Number: 06-03-C-MTJ.

Application Type: Impose and use a PFC.

PFC Level: $4.50.

Total PFC Revenue Approved in this Decision: $472.479.

Earliest Charge Effective Date: August 1, 2006.

Estimated Charge Expiration Date: February 1, 2008.

Class of Air Carriers not Required to Collect PFC'S:

Air taxi/commercial operators filing FAA Form 1800-31.

Determination: Approved. Based on information submitted in the public agency's application, the FAA has determined that the proposed class accounts for less than 1 percent of the total annual enplanements at Montrose Regional Airport.

Brief Description of Projects Approved for Collection and Use:

Update airport master plan.

Construct portion of taxiway alpha.

Construct taxiway B4/C.

Expand terminal apron.

Update airport master plan phase II.

Acquire two pieces of snow removal equipment.

Relocate taxiway B.

Decision Date: June 15, 2006.

For Further Information Contact: Chris Schaffer, Denver Airports District Office, (303) 342-1258.

Public Agency: City of San Angelo, Texas.

Application Number: 06-07-C-00-SJT.

Application Type: Impose and use a PFC.

PFC Level: $4.50.

Total PFC Revenue Approved in this Decision: $1,568,947.

Earliest Charge Effective Date: November 1, 2006.

Estimated Charge Expiration Date: September 1, 2012.

Class of Air Carriers not Required to Collect PFC'S:

Air taxi/commercial operators filing FAA Form 1800-31.

Determination: Approved. Based on information submitted in the public agency's application, the FAA has determined that the proposed class accounts for less than 1 percent of the total annual enplanements at San Angelo Regional Airport/Mathis Field.

Brief Description of Projects Approved for Collection and Use:

Rehabilitate runway 18/36.

Rehabilitate taxiways A, B and H lighting systems.

Rehabilitate runway 9/27 lighting system.

Apron rehabilitation.

Terminal seating.

Decision Date: June 19, 2006.

FOR FURTHER INFORMATION CONTACT: Marcelino Sanchez, Southwest Region Airports Division, (817) 222-5652.

Public Agency: County of Eau Claire, Eau Claire, Wisconsin.

Application Number: 06-02-C-00-EAU.

Application Type: Impose and use a PFC.

PFC Level: $4.50.

Total PFC Revenue Approved in this Decision: $662,411.

Earliest Charge Effective Date: August 1, 2006.

Estimated Charge Expiration Date: May 1, 2014.

Class of Air Carriers not Required to Collect PFC'S:

Air taxi/commercial operators.

Determination: Approved. Based on information submitted in the public agency's application, the FAA has determined that the proposed class accounts for less than 1 percent of the total annual enplanements at Chippewa Valley regional Airport.

Brief Description of Projects Approved for Collection and Use:

Ramp reconstruction.

Runway 14/32 design.

Runway 14/32 reconstruction.

Runway 4 holding bay construction.

Taxiway A2 construction.

Connector taxiway construction.

Taxilane and ramp construction.

Land for hanger area expansion.

Runway 4/22 safety area improvements.

Land acquisition for runway 4/22 extension.

Aircraft rescue and firefighting vehicle.

Connector taxiway for taxiways A and B.

Runway 4/22 rehabilitation.

Land acquisition for future development.

PFC application.

Decision Date: June 19, 2006.

FOR FURTHER INFORMATION CONTACT: Nancy Nistler, Minneapolis Airports District Office, (612) 713-4353.

Public Agency: City of Albuquerque, New Mexico.

Application Number: 06-03-C-00-ABQ.

Application Type: Impose and use a PFC.

PFC Level: $3.00.

Total PFC Revenue Approved in this Decision: $66,066,726.

Earliest Charge Effective Date: December 1, 2007.

Class of Air Carriers not Required to Collect PFC'S:

Air taxi/commercial operators filing FAA Form 1800-31.

Determination: Approved. Based on information submitted in the public agency's application, the FAA has determined that the proposed class accounts for less than 1 percent of the total annual enplanements at Albuquerque International Sunport.

Brief Description of Projects Approved for Collection and Use:

Runway 3/21 extension.

Terminal apron rehabilitation.

Expand communications center and equipment.

Upgrade flight information display system.

Public space (terminal) capacity enhancement.

Terminal mechanical/electrical/fire safety upgrades.

Construct customs/federal inspection station.

Expand passenger screening checkpoint.

Restructure Spirit Drive.

PFC application administrative costs.

Brief Description of Project Disapproved for Collection and Use:

Extend University Drive.

Determination: This project does not meet the requirements of § 158.15. This roadway does not exclusively serve airport traffic, therefore it is not eligible in accordance with paragraph 620a(3) of FAA Order 5100.38C, Airport Improvement Program Handbook (June 28, 2005).

Decision Date: June 26, 2006.

FOR FURTHER INFORMATION CONTACT: Andy Velayos, Southwest region Airports Division, (817) 222-5647.

Amendments to PFC Approvals

Amendment No. city, state | Amendment approved date | Original approved net PFC revenue | Amended approved net PFC revenue | Original estimated charge exp. date | Amended estimated charge exp. date
05-12-C-01-MKE, Milwaukee, WI | 05/16/06 | $242,364 | $260,614 | 06/01/18 | 05/01/18
00-06-C-04-MKE, Milwaukee, WI | 06/08/06 | 123,240,672 | 130,460,739 | 11/01/14 | 02/01/14
02-07-C-03-MKE, Milwaukee, WI | 06/08/06 | 35,205,833 | 38,807,888 | 11/01/17 | 03/01/17
04-10-C-01-MKE, Milwaukee, WI | 06/08/06 | 11,000,601 | 11,775,601 | 05/01/18 | 04/01/18
01-08-C-01-PDX, Portland, OR | 06/16/06 | 551,029,000 | 551,129,000 | 05/01/16 | 05/01/16

Issued in Washington, DC, on July 17, 2006.
Joe Hebert,
Manager, Financial Analysis and Passenger Facility Charge Branch.

[FR Doc. 06-6378 Filed 7-19-06; 8:45 am]

BILLING CODE 4910-13-M